Title 3—

The President

Proclamation 7799 of June 26, 2004

National HIV Testing Day, 2004

By the President of the United States of America

A Proclamation

Every day, 8,000 lives are lost in the global AIDS pandemic. In our country, nearly 1 million people are infected with HIV, and approximately 40,000 more contract it each year. National HIV Testing Day is an opportunity for Americans to increase their awareness of this terrible disease and to get tested for HIV/AIDS. By working together to end this pandemic, our Nation's citizens contribute to a brighter future for themselves and for people around the world.

New drugs and new treatments are bringing hope and enhancing the quality of life for those who are affected by HIV/AIDS. However, these advances can only help individuals if they know their HIV status. The National HIV Testing Day theme, “It's better to know,” highlights the importance of education in helping people make healthy decisions about preventing and treating HIV/AIDS. Approximately one-quarter of people who are HIV positive do not know that they are carriers. Without knowing their status, they cannot get the treatment they need and may unknowingly spread new infections. Today, testing is easier than ever. It is imperative that those at risk for HIV/AIDS get tested.

To reach out to HIV/AIDS sufferers in need, I recently announced $20 million in immediate new funding to deliver lifesaving drugs to Americans who are awaiting them. I have proposed in my 2005 budget to spend more than $17 billion here at home to expand prevention efforts such as regular testing and abstinence education, care and treatment, and research efforts to combat HIV/AIDS. In addition, this budget proposal doubles funding for abstinence-only programs, because abstinence is the only sure way to avoid sexually transmitted diseases. My Administration is working through the Centers for Disease Control and Prevention's Advancing HIV Prevention initiative to encourage routine testing as a normal part of health care. At-risk individuals who make the decision to get tested are taking a step toward saving their own lives and the lives of others.

My Administration is also fully engaged in the global fight against HIV/AIDS. I have proposed a record $15 billion over 5 years to combat the spread of HIV/AIDS around the world, with a focus on some of the hardest-hit countries of Africa, the Caribbean, and Asia. This money will be used to prevent 7 million new infections, treat 2 million HIV-infected people with life-extending drugs, and care for 10 million individuals impacted by this disease, including orphans.

And, working with international partners, we will support intensified research to create a vaccine and find a cure. While AIDS remains a source of great suffering for many individuals, worldwide efforts are bringing us closer to the day when AIDS will be defeated.

NOW, THEREFORE, I, GEORGE W. BUSH, President of the United States of America, by virtue of the authority vested in me by the Constitution and laws of the United States, do hereby proclaim June 27, 2004, as National HIV Testing Day. I encourage the American people to support the battle against HIV/AIDS. I also urge those at risk to get tested for the disease and to learn more about how to end this health threat in America and around the world.

IN WITNESS WHEREOF, I have hereunto set my hand this twenty-sixth day of June, in the year of our Lord two thousand four, and of the Independence of the United States of America the two hundred and twenty-eighth.

B

[FR Doc. 04-15029

Filed 6-29-04; 8:45 am]

Billing code 3195-01-P